DEPARTMENT OF THE INTERIOR

Fish and Wildlife Service

Endangered Species Recovery Permit Applications

AGENCY: Fish and Wildlife Service, Interior.

ACTION: Notice of receipt of permit applications.

SUMMARY: The following applicants have applied for a scientific research permit to conduct certain activities with endangered species pursuant to section 10(a)(1)(A) of the Endangered Species Act (16 U.S.C. 1531 et seq.). The U.S. Fish and Wildlife Service (“we”) solicit review and comment from local, State, and Federal agencies, and the public on the following permit requests.

DATES: Comments on these permit applications must be received on or before October 29, 2003 to receive our consideration.

ADDRESSES: Written data or comments should be submitted to the Chief, Endangered Species, Ecological Services, U.S. Fish and Wildlife Service, 911 NE. 11th Avenue, Portland, Oregon 97232-4181 (fax: 503-231-6243). Please refer to the respective permit number for each application when submitting comments. All comments received, including names and addresses, will become part of the official administrative record and may be made available to the public.

FOR FURTHER INFORMATION CONTACT: Documents and other information submitted with these applications are available for review, subject to the requirements of the Privacy Act and Freedom of Information Act, by any party who submits a written request for a copy of such documents within 30 days of the date of publication of this notice to the address above (telephone: 503-231-2063). Please refer to the respective permit number for each application when requesting copies of documents.

SUPPLEMENTARY INFORMATION:

Permit No. TE-073204

Applicant: Ronald Spier, San Bernardino, California.

The applicant requests a permit to take (survey by pursuit) the Quino checkerspot butterfly (Euphydryas editha quino) in conjunction with surveys throughout the range of the species in California for the purpose of enhancing its survival.

Permit No. TE-073416

Applicant: Siskiyou National Forest, Grants Pass, Oregon.

The applicant requests a permit to remove/reduce to possession (collect seeds) the Arabis macdonaldiana (McDonald's rock-cress) in Josephine County, Oregon, for the purpose of enhancing its survival.

Permit No. TE-062907

Applicant: Andrew McGinn Forde, Agoura Hills, California.

The permittee requests an amendment to take (harass by survey, locate and monitor nests) the southwestern willow flycatcher (Empidonax trailii extimus) in conjunction with surveys throughout the range of the species in California for the purpose of enhancing its survival.

Permit No. TE-074187

Applicant: Stacey Ostermann, Davis, California.

The applicant requests a permit to take (harass) the peninsular bighorn sheep (Ovis canadensis nelsoni) in conjunction with research in San Diego County, California, for the purpose of enhancing its survival.

Permit No. TE-074658

Applicant: Julia Dumars, Sacramento, California.

The applicant requests a permit to take (harass by survey) the Conservancy fairy shrimp (Branchinecta conservatio), the longhorn fairy shrimp (Branchinecta longiantenna), the Riverside fairy shrimp (Streptocephalus wootoni), the San Diego fairy shrimp (Branchinecta sandiegonensis), and the vernal pool tadpole shrimp (Lepidurus packardi) in conjunction with surveys throughout the range of each species in California for the purpose of enhancing their survival.

Permit No. TE-074601

Applicant: Jessica Delich, Gold River, California.

The applicant requests a permit to take (harass by survey) the Conservancy fairy shrimp (Branchinecta conservatio), the longhorn fairy shrimp (Branchinecta longiantenna), the Riverside fairy shrimp (Streptocephalus wootoni), the San Diego fairy shrimp (Branchinecta sandiegonensis), and the vernal pool tadpole shrimp (Lepidurus packardi) in conjunction with surveys throughout the range of each species in California for the purpose of enhancing their survival.

Permit No. TE-053379

Applicant: Christine Tischer, Orange, California.

The permittee requests an amendment to take (harass by survey) the Conservancy fairy shrimp (Branchinecta conservatio), the longhorn fairy shrimp (Branchinecta longiantenna), the Riverside fairy shrimp (Streptocephalus wootoni), the San Diego fairy shrimp (Branchinecta sandiegonensis), and the vernal pool tadpole shrimp (Lepidurus packardi) in conjunction with surveys throughout the range of each species in California for the purpose of enhancing their survival.

Permit No. TE-074955

Applicant: Susan Scatolini, San Diego, California.

The applicant requests a permit to take (harass by survey) the Conservancy fairy shrimp (Branchinecta conservatio), the longhorn fairy shrimp (Branchinecta longiantenna), the Riverside fairy shrimp (Streptocephalus wootoni), the San Diego fairy shrimp (Branchinecta sandiegonensis), and the vernal pool tadpole shrimp (Lepidurus packardi) in conjunction with surveys throughout the range of each species in California for the purpose of enhancing their survival.

Permit No. TE-068799

Applicant: Mikael Romich, San Bernardino, California.

The applicant requests a permit to take (harass by survey) the San Bernardino kangaroo rat (Dipodomys merriami parvus) in conjunction with demographic studies in San Bernardino, Riverside, Los Angeles, Orange, and San Diego Counties, California, for the purpose of enhancing its survival.

Permit No. TE-050122

Applicant: California Department of Fish and Game, Bishop, California.

The permittee requests an amendment to take (harass by survey, capture, handle, radio collar, and release) the peninsular bighorn sheep (Ovis canadensis nelsonii) in conjunction with demographic and life history studies in Riverside and San Diego Counties, California, for the purpose of enhancing its survival.

Permit No. TE-075112

Applicant: Gregory Chatman, Rialto, California.

The applicant requests a permit to take (survey by pursuit) the Quino checkerspot butterfly (Euphydryas editha quino) in conjunction with surveys throughout the range of the species in California for the purpose of enhancing its survival.

Permit No. TE-075145

Applicant: David Elliott, La Habra, California.

The applicant requests a permit to take (survey, mark, PIT-tag, recapture, and release) the mountain yellow-legged frog (Rana muscosa) in conjunction with surveys in Los Angeles and San Bernardino Counties, California, for the purpose of enhancing its survival.

Permit No. TE-702631

Applicant: Regional Director, Region 1, U.S. Fish and Wildlife Service, Portland, Oregon.

The permittee requests an amendment to remove/reduce to possession Polygonum hickmanii (Scotts Valley polygonum) in conjunction with recovery efforts throughout the range of the species for the purpose of enhancing its propagation and survival.

We solicit public review and comment on each of these recovery permit applications.

Dated: September 4, 2003.
David J. Wesley,
Acting Regional Director, Region 1, U.S. Fish and Wildlife Service.

[FR Doc. 03-24479 Filed 9-26-03; 8:45 am]

BILLING CODE 4310-55-P